FEDERAL MARITIME COMMISSION

Ocean Transportation Intermediary License Applicants

Notice is hereby given that the following applicants have filed with the Federal Maritime Commission an application for license as a Non-Vessel—Operating Common Carrier and Ocean Freight Forwarder—Ocean Transportation Intermediary pursuant to section 19 of the Shipping Act of 1984 as amended (46 U.S.C. app. 1718 and 46 CFR part 515).

Persons knowing of any reason why the following applicants should not receive a license are requested to contact the Office of Transportation Intermediaries, Federal Maritime Commission, Washington, DC 20573.

Non-Vessel—Operating Common Carrier Ocean Transportation Intermediary Applicants:

Kingsmart Express Container, Inc., 219 S. Chandler Ave., #E, Monterey Park, CA 91754. Officers: Zheng Wang, Secretary (Qualifying Individual) Yaohang Chen, CEO.

America First International, Inc., 5409 NW 72nd Avenue, Miami, FL 33166. Officer: Mario Andres Morales, President (Qualifying Individual).

World Express Company Limited, Freight Forwarders Centre, 40 Farquhar Street, Port Louis Mauritius, Port Louis, Republic of Mauritius. Officer: Ken Fah Lam Wing Cheong, Country Manager (Qualifying Individual).

King Solomon's Services Inc., 1768 Nostrand Avenue, Brooklyn, NY 11226. Officers: Orin Blackman, President (Qualifying Individual), Vidyawattie Barran, Secretary.

Non-Vessel—Operating Common Carrier and Ocean Freight Forwarder Transportation Intermediary Applicants:

Planes Moving & Storage, Inc., 9823 Cincinnati, Dayton Road, West Chester, OH 45069. Officer: Jimmy Huff, Vice President of Operations (Qualifying Individual).

Opus-One Cargo Corp., 7180 NW 84th Avenue, Miami, FL 33166. Officers: Adriana Gonzalez, General Manager (Qualifying Individual), John Sevilla, President.

United Logistics of America, Inc., 85 Division Street, Suite 103, Bensenville, IL 60106. Ju Wen Li, Sole Proprietor.

AICS, Inc. dba Airwaves International Cargo Services, 12333 S. Van Ness Avenue, #107, Hawthorne, CA 90250. Officer: Rene S. Ramirez, President (Qualifying Individual).

Ocean Freight Forwarder—Ocean Transportation Intermediary Applicants:

Ultimate Logistics, Inc., 3121 W. Hallandale Bch. Blvd. #113, Pembroke Park, FL 33009. Officers: Charles Patrice Casimir, Manager (Qualifying Individual), Evelyn Balan, President.

Wessex Cargo, Inc., 21213 B Hawthorne Blvd, Suite 5424, Torrance, CA 90503. Officer: Paul Victor Iles, President (Qualifying Individual).

Millennium Maritime Shipping, L.L.C., 5200 Town & Country Blvd, #924, Frisco, TX 75034. Officers: Karriem Wakkiluddin, Manager (Qualifying Individual), Shaadi Momani, President.

Early Bird Pick Up and Delivery LLC, 128 Magnolia Avenue, Bridgeport, CT 06610. Officer: Junior Hart, Member/Manager (Qualifying Individual).

Dated: April 29, 2005.
Bryant L. VanBrakle,
Secretary.

[FR Doc. 05-8886 Filed 5-3-05; 8:45 am]

BILLING CODE 6730-01-P